DEPARTMENT OF ENERGY

Office of Energy Efficiency and Renewable Energy

Transitioning the National Training and Education Resource to the Public

AGENCY: Office of Energy Efficiency & Renewable Energy, U.S. Department of Energy.

ACTION: Request for information.

SUMMARY: The U.S. Department of Energy (DOE) is seeking input from the public on its plan to transition its stewardship of the National Training and Education Resource (NTER) in spring 2015. The information sought under this Request for Information (RFI) is intended to assist DOE in further understanding potential strategic approaches to transitioning central administration of NTER to the private sector and the impacts on users. DOE seeks input from entities interested in taking over NTER as well as from impacted parties. The information collected may be used for internal DOE planning and decision-making purposes.

DATES: Comments regarding the RFI must be received on or before December 3rd, 2014.

ADDRESSES: The RFI is available at: https://eere-exchange.energy.gov. Responses and questions may be sent to:

Email: NTER-RFI@ee.doe.gov.

FOR FURTHER INFORMATION CONTACT: Requests for additional information should be directed to Linda Silverman, U.S. Department of Energy, Mailstop EE-61T, 1000 Independence Avenue SW., Washington, DC 20585, or linda.silverman@ee.doe.gov, 202-586-3896.

SUPPLEMENTARY INFORMATION: The U.S. Department of Energy (DOE) developed the National Training and Education Resource (NTER) to provide an open source platform for multimedia, self-paced training courses designed to build skills in clean energy vocations at lower costs than proprietary packages. NTER offers DOE and other organizations a unified platform to provide state-of-the-art training. NTER users earn certifications and demonstrate competency that translate directly into on-the-job performance. Its highly modular design allows it to be used as a stand-alone open-source toolkit or combined with proprietary third-party materials. NTER is a learning management system (LMS) and Content Management System (CMS) that streamlines the delivery of training and content to stakeholders. It was designed to leverage open source code, enabling educators to create content and students to take courses easily.

DOE's mission is to ensure America's security and prosperity by addressing its energy, environmental, and nuclear challenges through transformative science and technology solutions. DOE's intent has been to transfer stewardship of the platform to an entity within the open source community in order to maximize market adoption while fostering open source, shared learning environments. It is envisioned that one or more non-governmental entities with expertise in open source development of educational content creation and sharing will be most qualified to take over this well-developed product and its customer-base. This RFI seeks input from those entities interested in taking over NTER as well as from impacted parties.

The RFI is available at: https://eere-exchange.energy.gov.

Issued in Washington, DC, on November 4, 2014.
John Lushetsky,
Director, Strategic Programs, Office of Energy Efficiency and Renewable Energy.

[FR Doc. 2014-26727 Filed 11-10-14; 8:45 am]

BILLING CODE 6450-01-P